DEPARTMENT OF DEFENSE

Office of the Secretary

[Transmittal No. 15-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-15 with attached transmittal, policy justification, and Sensitivity of Technology.

Dated: May 11, 2015.
Aaron Siegel,
Alternate OSD Federal Register Liaison Officer, Department of Defense.

Transmittal No. 15-15

Notice of Proposed Issuance of Letter of Offer Pursuant to Section 36(b)(1) of the Arms Export Control Act, as amended

(i) Prospective Purchaser: India

(ii) Total Estimated Value:

Major Defense Equipment * | $ 8.0 million
Other | $88.0 million
TOTAL | $96.0 million

(iii) Description and Quantity or Quantities of Articles or Services under Consideration for Purchase: follow on support for five years for their fleet of C-130J Super Hercules that includes 8 spare AN/ALE-47 Counter-Measures Dispensing Systems, 6 spare AN/ALR-56M Advanced Radar Warning Receivers, up to 9,000 flare cartridges, spare and repair parts, configuration updates, support and test equipment, publications and technical data, technical services, personnel training and training equipment, U.S. Government and contractor engineering and logistics support services, and other related elements of logistics support

(iv) Military Department: Air Force (QAE)

(v) Prior Related Cases, if any: FMS Case SAA -$963M -21Feb08

(vi) Sales Commission, Fee, etc., Paid, Offered, or Agreed to be Paid: None

(vii) Sensitivity of Technology Contained in the Defense Article or Defense Services Proposed to be Sold: See Attached Annex

(viii) Date Report Delivered to Congress: 24 Apr 15

* As defined in Section 47(6) of the Arms Export Control Act.

POLICY JUSTIFICATION

India—Follow-on Support of C-130J Super Hercules Aircraft

The Government of India has requested a possible sale for follow on support for five years for their fleet of C-130J Super Hercules that includes 8 spare AN/ALE-47 Counter-Measures Dispensing Systems, 6 spare AN/ALR-56M Advanced Radar Warning Receivers, up to 9,000 flare cartridges, spare and repair parts, configuration updates, support and test equipment, publications and technical data, technical services, personnel training and training equipment, U.S. Government and contractor engineering and logistics support services, and other related elements of logistics support. The estimated cost is $96.0 million.

This proposed sale will contribute to the foreign policy and national security of the United States by helping to strengthen the U.S.-India strategic relationship and to improve the capabilities of a major South Asian partner which has been, and continues to be, an important force for economic progress and stability in South Asia.

India needs this support for its Super Hercules aircraft to ensure its aircraft operate effectively to serve its transport, local and international humanitarian assistance, and regional disaster relief needs. This proposed sale of additional equipment and support will enable the Indian Air Force to sustain a higher mission-ready status for its C-130J fleet.

The proposed sale of this equipment and support will not alter the basic military balance in the region.

The principal contractor will be the Lockheed-Martin Company in Marietta, Georgia. There are no known offset agreements proposed in connection with this potential sale.

Implementation of this proposed sale will not require the assignment of any additional U.S. Government or contractor personnel to India.

There will be no adverse impact on U.S. defense readiness as a result of this proposed sale.

Transmittal No. 15-15

Notice of Proposed Issuance of Letter of Offer Pursuant to Section 36(b)(1) of the Arms Export Control Act

Annex

Item No. vii

(vii) Sensitivity of Technology:

1. The AN/ALR-56M is a computer controlled radar warning receiver (RWR). It monitors the environment in an effort to detect radar signals. Upon detection and identification of a valid radar signal, emitter identification is conveyed to the AN/ALE-47 countermeasures dispenser system. The ALR-56M has thirteen line replaceable units (LRUs): four I/J band DF receivers, an Analysis Processor, a Superhet Controller, a Superhet Receiver, a C/D band Receiver/Power supply, four I/J band antennas, and one C/D band antenna. Hardware and software are classified up to Confidential. Technical data and documentation are classified up to Secret.

2. The AN/ALE-47 Counter-Measures Dispensing System (CMDS) is an integrated, threat-adaptive, software-programmable dispensing system capable of dispending chaff, flares, and active radio frequency expendables. The system is internally mounted and may be operated as a stand-alone system or may be integrated with other on-board electronic warfare and avionics systems. The AN/ALE-47 uses data received over the aircraft interfaces to assess the threat situation and to determine a response. Hardware and software are Unclassified. Technical data and documentation are classified up to Secret.

3. If a technologically advanced adversary were to obtain knowledge of the specific hardware and software elements, the information could be used to develop countermeasures which might reduce weapon system effectiveness or be used in the development of a system with similar or advanced capabilities.

4. A determination has been made that the recipient country can provide the same degree of protection for the sensitive technology being released as the U.S. Government. The sale is necessary in furtherance of the U.S. foreign policy and national security objectives outline in the Policy Justification.

5. All defense articles and services listed in this transmittal have been authorized for release and export to the Government of India.

[FR Doc. 2015-11714 Filed 5-14-15; 8:45 am]

BILLING CODE 5001-06-P